DEPARTMENT OF ENERGY

Workshop on Predictive Models and High Performance Computing as Tools To Accelerate the Scaling-up of New Bio-Based Fuels

AGENCY: Office of Energy Efficiency and Renewable Energy, Department of Energy.

ACTION: Notice of public virtual workshop.

SUMMARY: The Department of Energy (DOE) is announcing a public virtual workshop entitled, “Workshop on Predictive Models and High Performance Computing as Tools to Accelerate the Scaling-up of New Bio-Based Fuels.” The purpose of this virtual workshop is to determine if predictive models and high performance computing can and should be utilized to reduce biotechnology uncertainty and accelerate scaling-up of biorefinery/chemical production equipment and optimize operations.

DATES: The public virtual workshop will be held June 9 to June 11, 2020, from 10:30 a.m. ET to 4:30 p.m. ET each day. Persons interested in attending this public workshop must register online by 4 p.m., June 5, 2020. Early registration is recommended because facilities are limited and, therefore, DOE may limit the number of participants from each organization. If time and space permit, day of registration for the public virtual workshop will be provided beginning at 8:30 a.m. ET each day of the workshop.

ADDRESSES: The public virtual workshop will be held online via webinar. To register for the public virtual workshop, please visit www.yesevents.com/BETO_SCALEUP. Once registered, an email with call-in and webinar login information will be sent to the registrant.

FOR FURTHER INFORMATION CONTACT: Mr. Josh Messner, Office of Energy Efficiency and Renewable Energy, U.S. Department of Energy, 1000 Independence Avenue SW, Washington, DC 20585; Phone: (240) 562-1287; Email: joshua.messner@ee.doe.gov.

SUPPLEMENTARY INFORMATION:

Purpose of the Workshop

Over the past decade, federal and private investments in the scaling-up of integrated biorefineries have exceeded $2 billion. A majority of these facilities have either been shut down or are struggling to have reliable and continuous operations. Furthermore, mathematical models representing the total system of an integrated biorefinery do not exist currently. Through the use of highly instrumented bench-, pilot-, and demonstration-scaled facilities along with high performance computing, artificial intelligence, and machine learning it may be possible to reduce technology uncertainty and accelerate scale-up. The purpose of this workshop is to understand how modeling tools can be effectively utilized in conjunction with operational data to augment and accelerate scale-up and integration efforts.

Public Participation

Registration is free and available to the public on a first-come, first-served basis. To register for the public virtual workshop, please visit www.yesevents.com/BETO_SCALEUP. Registrants will receive a confirmation email with call-in and webinar login information after they have been accepted. Persons interested in attending this public workshop must register online by 4 p.m., June 5, 2020. Early registration is recommended because facilities are limited and, therefore, DOE may limit the number of participants from each organization. If time and space permit, day of registration for the public virtual workshop will be provided beginning at 8:30 a.m. ET each day of the workshop. DOE recommends that participants have access to high-speed internet and a computer to participate in the brainstorming portions of the virtual workshop. All participants are encouraged to make use of video capabilities during the virtual workshop.

Information on Services for Individuals With Disabilities

If you need special accommodations due to a disability, please email BETOSCALEUP@thebuildingpeople.com no later than June 5, 2020.

Signing Authority

This document of the Department of Energy was signed on May 28, 2020, by Michael Berube Acting Director, Bioenergy Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 29, 2020.
Treena V. Garrett,
Federal Register Liaison Officer, U.S. Department of Energy.

[FR Doc. 2020-11970 Filed 6-2-20; 8:45 am]

BILLING CODE 6450-01-P